DEPARTMENT OF THE INTERIOR

Fish and Wildlife Service

Proposed Information Collection; OMB Control Number 1018-0022; Federal Fish and Wildlife License/Permit Applications and Reports, Migratory Birds

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC, which is scheduled to expire on July 31, 2007. We may not conduct or sponsor and a person is not required to respond to a collection of information unless it displays a currently valid OMB control number.

DATES: You must submit comments on or before May 22, 2007.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

Our Regional Migratory Bird Permit Offices use information that we collect on permit applications to determine the eligibility of applicants for permits requested in accordance with the criteria in various Federal wildlife conservation laws and international treaties, including:

(1) Migratory Bird Treaty Act (16 U.S.C. 703 et seq.).

(2) Lacey Act (16 U.S.C. 3371 et seq.).

(3) Bald and Golden Eagle Protection Act (16 U.S.C. 668).

Service regulations implementing these statutes and treaties are in Chapter I, Subchapter B of Title 50 Code of Federal Regulations (CFR). These regulations stipulate general and specific requirements that, when met, allow us to issue permits to authorize activities that are otherwise prohibited.

This revised IC includes migratory bird permit applications and the reports associated with the permits. We have:

(1) Modified the format and content of the currently approved application forms so that they (a) are easier to understand and complete and (b) accommodate future electronic permitting.

(2) Added six new forms:

(a) FWS Form 3-200-15b (Eagle Parts for Native American Religious Purposes - Reorder Request) will enable Native Americans to send reorders directly to the National Eagle Repository, which distributes the parts, instead of to the Regional permit office.

(b) FWS Form 3-200-77 (Native American Religious Use - Eagle Take), FWS Form 3-200-78 (Native American Religious Use - Live Eagles), and FWS Form 3-200-79 (Special Purpose-Abatement Activities Using Raptors) will provide the public with applications specifically designed to address information necessary to issue permits for these activities.

(c) FWS Form 3-202-13 (Eagle Exhibition Annual Report) will facilitate reporting under Eagle Exhibition permits by clarifying that we need information about eagles only. Currently, permittees use FWS Form 3-202-5 (Special Purpose Possession Live/Dead (Education) Annual Report), which requests information on other migratory birds.

(d) FWS Form 3-202-14 (Native American Religious Use - Live Eagles Annual Report) will facilitate reporting under the permits for Native American religious use.

We are proposing to transfer FWS Forms 3-200-69 (CITES Import/Export - Eagle Transport for Scientific or Exhibition Purposes) and 3-200-70 (CITES Import/Export - Eagle Transportation for Indian Religious Purposes), which are currently approved under this IC, to OMB Control Number 1018-0093.

II. Data

OMB Control Number: 1018-0022.

Title: Federal Fish and Wildlife License/Permit Applications and Reports, Migratory Birds.

Service Form Number(s): 3-200-6 through 3-200-18, 3-200-67, 3-200-68, 3-200-77, 3-200-78, 3-200-79, 3-202-1 through 3-202-14, 3-186, and 3-186A.

Type of Request: Revision of currently approved collection.

Affected Public: Individuals; zoological parks; museums; universities; scientists; taxidermists; businesses; and Federal, State, tribal, and local governments.

Respondent's Obligation: Required to obtain or retain a benefit.

Frequency of Collection: On occasion.

Estimated Nonhour Cost Burden: $849,275 for fees associated with permit applications.

The following table lists the migratory bird permit application and report forms and burden estimates for each. We have rounded the annual burden hours to the nearest hour. An asterisk (*) denotes new forms.

Activity | Number of annual respondents | Number of annual responses | Completion time per response | Annual burden hours
3-200-6 - Import/Export | 76 | 76 | 1 hour | 76
3-200-7 - Scientific Collecting | 209 | 209 | 4 hours | 836
3-200-8 - Taxidermy | 692 | 692 | 1 hour | 692
3-200-9 - Waterfowl Sale and Disposal | 369 | 369 | 1 hour | 369
3-200-10a - Special Purpose Salvage | 192 | 192 | 1 hour | 192
3-200-10b - Rehabilitation | 180 | 180 | 3 hours | 540
3-200-10b.2 - Permission to Release Information | 79 | 79 | 15 minutes | 20
3-200-10c - Special Purpose Education Possession/Live | 248 | 248 | 3 hours | 744
3-200-10d - Special Purpose Education Possession/Dead | 66 | 66 | 2 hours | 132
3-200-10e - Special Purpose Game Bird Propagation | 13 | 13 | 1 hour | 13
3-200-10f - Special Purpose Miscellaneous | 105 | 105 | 1.5 hours | 158
3-200-11 - Falconry | 470 | 470 | 1 hour | 470
3-200-12 - Raptor Propagation | 54 | 54 | 2 hours | 108
3-200-13 - Depredation | 2,069 | 2,069 | 2 hours | 4,138
3-200-14 - Bald and Golden Eagle Exhibition | 121 | 121 | 3 hours | 363
3-200-15a - Eagle Parts for Native American Religious Purposes - Permit Application First Order and Tribal Enrollment Certification | 1,344 | 1,344 | 1 hour | 1,344
3-200-15b - Eagle Parts for Native American Religious Purposes - Reorder Request* | 895 | 895 | 20 minutes | 298
3-200-16 - Take of Depredating Eagles | 10 | 10 | 2 hours | 20
3-200-17 - Eagle Falconry | 4 | 4 | 1 hour | 4
3-200-18 - Take of Golden Eagle Nests | 4 | 4 | 4 hours | 16
3-200-57 - Special Canada Goose | 1 | 1 | 6 hours | 6
3-200-68 - Renewal of a Permit | 5,051 | 5,051 | 30 minutes | 2,526
3-200-77 - Native American Religious Use - Eagle Take* | 10 | 10 | 2 hours | 20
3-200-78 - Native American Religious Use - Live Eagles* | 5 | 5 | 4 hours | 20
3-200-79 - Special Purpose - Abatement Activities Using Raptors* | 25 | 25 | 2 hours | 50
3-202-1 - Scientific Collecting Annual Report | 580 | 580 | 1 hour | 580
3-202-2 - Waterfowl Sale and Disposal Annual Report | 1,053 | 1,053 | 30 minutes | 527
3-202-3 - Special Purpose Salvage Annual Report | 1,833 | 1,833 | 1 hour | 1,833
3-202-4 - Rehabilitation Annual Report | 1,649 | 1,649 | 3 hours | 4,947
3-202-5 - Special Purpose Possession Live/Dead (Education) Annual Report | 1,161 | 1,161 | 1.5 hours | 1,742
3-202-6 - Special Purpose Game Bird Propagation Annual Report | 95 | 95 | 30 minutes | 48
3-202-7 - Special Purpose Miscellaneous Annual Report | 694 | 694 | 30 minutes | 347
3-202-8 - Raptor Propagation Annual Report | 423 | 423 | 1 hour | 423
3-202-9 - Depredation Annual Report | 2,500 | 2,500 | 1 hour | 2,500
3-200-10 - Special Canada Goose Annual Report | 18 | 18 | 1 hour | 18
3-202-11 - Eagle Depredation Annual Report | 21 | 21 | 1 hour | 21
3-202-12 - Acquisition and Transfer Request | 1,000 | 1,000 | 1 hour | 1,000
3-202-13 - Eagle Exhibition Annual Report* | 1,495 | 1,495 | 1 hour | 1,495
3-202-14 - Native American Religious Use - Live Eagles Annual Report* | 10 | 10 | 20 minutes | 3
3-186 - Notice of Transfer or Sale of Migratory Waterfowl | 1,053 | 12,636 | 15 minutes | 3,159
3-186A - Migratory Bird Acquisition and Disposition Report | 4,659 | 18,636 | 15 minutes | 4,659
Totals | 30,536 | 56,096 |  | 36,457

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments submitted in response to this notice are a matter of public record. We will include and/or summarize each comment in our request to OMB to approve this IC.

Dated: March 1, 2007
Hope Grey,
Information Collection Clearance Officer, Fish and Wildlife Service.

FR Doc. E7-5310 Filed 3-22-07; 8:45 am

Billing Code 4310-55-S